DEPARTMENT OF VETERANS AFFAIRS

[OMB Control No: 2900-0619; 2900-0111; 2900-0524; 2900-0752]

Agency Information Collection Activity Under OMB Review: (Inquiry Routing & Information System (IRIS); Statement of Purchaser or Owner Assuming Seller's Loan; VA Police Officer Pre-Employment Screening Checklist; Universal Stakeholder Participation Questionnaire (uSPEQ))

AGENCY: Administration, Department of Veterans Affairs.

ACTION: Notice of Emergency OMB Extension and Emergency Clearance Requests.

SUMMARY: In compliance with the Paperwork Reduction Act (PRA) of 1995 (44 U.S.C. 3501-3521), the Department of Veterans Affairs (VA) is providing notice of its agency request for Emergency Extension of OMB Control Numbers 2900-0619 (Inquiry Routing & Information System (IRIS)) and 2900-0111 (Statement of Purchaser or Owner Assuming Seller's Loan (VA Form 26-6382) under Veterans Benefits Administration (VBA). VA has also requested Emergency Clearance of OMB Control Number 2900-0524 (VA Police Officer Pre-Employment Screening Checklist) and 2900-0752 (Universal Stakeholder Participation Questionnaire (uSPEQ®)) under Veterans Health Administration (VHA). Concurrent to this notice, the regular 60 and 30-day Federal Register Notices and PRA clearance process has been initiated for each information collection request.

DATES: This notification is published in the Federal Register, to post concurrent with the Public Comment Notices for each identified OMB control number on January 30, 2017.

FOR FURTHER INFORMATION CONTACT: Cynthia Harvey-Pryor, Enterprise Records Service (005R1B), Department of Veterans Affairs, 810 Vermont Avenue NW., Washington, DC 20420, at 202-461-5870 or email cynthia.harvey-pryor@va.gov.

By direction of the Secretary.
Cynthia Harvey-Pryor,
Program Specialist, Office of Privacy and Records Management, Department of Veterans Affairs.

[FR Doc. 2016-28577 Filed 11-28-16; 8:45 am]

BILLING CODE 8320-01-P